ENVIRONMENTAL PROTECTION AGENCY

40 CFR Part 721

[EPA-HQ-OPPT-2006-0898; FRL-8340-8]

RIN 2070-AB27

Certain Chemical Substances; Withdrawal of Significant New Use Rules

AGENCY: Environmental Protection Agency (EPA).

ACTION: Withdrawal of final rules.

SUMMARY: EPA is withdrawing two significant new use rules (SNURs) promulgated under section 5(a)(2) of the Toxic Substances Control Act (TSCA) for substances which were the subject of premanufacture notices (PMNs), i.e., dodecandioic acid, 1, 12-dihydrazide (CAS No. 4080-98-2; PMNs P-01-759 and P-05-555) and thiophene, 2,5-dibromo-3-hexyl- (CAS No. 116971-11-0; PMN P-07-283). EPA published the SNURs using direct final rulemaking procedures. EPA received notices of intent to submit adverse comments on these rules. Therefore, the Agency is withdrawing these SNURs, as required under the expedited SNUR rulemaking process. EPA also intends to publish in the Federal Register, under separate notice and comment rulemaking procedures, proposed SNURs for these two substances.

DATES: This final rule is effective November 19, 2007.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Karen Chu, Chemical Control Division (7405M), Office of Pollution Prevention and Toxics, Environmental Protection Agency, 1200 Pennsylvania Ave., NW., Washington, DC 20460-0001; telephone number: (202) 564-8773; e-mail address:chu.karen@epa.gov.

SUPPLEMENTARY INFORMATION:

I. Does this Action Apply to Me?

A list of potentially affected entities is provided in the Federal Register of September 19, 2007 (72 FR 53470) (FRL-8135-8). If you have questions regarding the applicability of this action to a particular entity, consult the person listed under FOR FURTHER INFORMATION CONTACT.

II. What Rule is being Withdrawn?

In the Federal Register of September 19, 2007 (72 FR 53470), EPA issued several direct final Significant New Use Rules (SNURs), including SNURs for the two chemical substances that are the subject of this withdrawal. These direct final rules were issued pursuant to the procedures in 40 CFR part 721, subpart D. In accordance with 40 CFR 721.170(d)(4)(i)(B), EPA is withdrawing the rules issued for dodecandioic acid, 1, 12-dihydrazide (CAS No. 4080-98-2; PMNs P-01-759 and P-05-555) and thiophene, 2, 5-dibromo-3-hexyl- (CAS No. 116971-11-0; PMN P-07-283) (see § 721.10057 and § 721.10088, respectively) because the Agency received a notice to submit adverse comments. EPA intends to propose SNURs for these two substances via notice and comment rulemaking in a future Federal Register document.

For further information regarding EPA's expedited process for issuing SNURs, interested parties are directed to 40 CFR part 721, subpart D and theFederal Register of July 27, 1989 (54 FR 31314). The record for the direct final SNUR for these substances which is being withdrawn was established at EPA-HQ-OPPT-2006-0898. That record includes information considered by the Agency in developing this rule and one of the notices of intent to submit adverse comments. The other notice of intent to submit adverse comments was claimed as Confidential Business Information by the commenter and therefore is not in the public docket.

III. How Do I Access the Docket?

To access the electronic docket, please go to http://www.regulations.gov and follow the online instructions to access Docket ID No. EPA-HQ-OPPT-2006-0898. Additional information about the docket facility is provided underADDRESSES in the Federal Register document of September 19, 2007 (72 FR 53470). If you have questions, consult the person listed under FOR FURTHER INFORMATION CONTACT.

IV. What Statutory and Executive Order Reviews Apply to this Action?

This final rule revokes or eliminates an existing regulatory requirement and does not contain any new or amended requirements. As such, the Agency has determined that this withdrawal will not have any adverse impacts, economic or otherwise. The statutory and executive order review requirements applicable to the direct final rule were discussed in the Federal Register document of September 19, 2007 (72 FR 53470). Those review requirements do not apply to this action because it is a withdrawal and does not contain any new or amended requirements.

V. Congressional Review Act

The Congressional Review Act, 5 U.S.C. 801 et seq. generally provides that before a rule may take effect, the agency promulgating the rule must submit a rule report to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Part 721

Environmental protection, Chemicals, Hazardous substances, Reporting and recordkeeping requirements.

Dated: November 14, 2007.
Oscar Hernandez,
Acting Director, Office of Pollution Prevention and Toxics.

Therefore, 40 CFR part 721 is amended as follows:

PART 721—[AMENDED]

1. The authority citation for part 721 continues to read as follows:

Authority: 15 U.S.C. 2604, 2607, and 2625(c).

§ 721.10057 [Removed]

2. By removing § 721.10057.

§ 721.10088 [Removed]

3. By removing § 721.10088.

[FR Doc. E7-22614 Filed 11-16-07 8:45 am]

BILLING CODE 6560-50-S